DEPARTMENT OF TRANSPORTATION

Federal Aviation Administration

14 CFR Part 71

[Docket No. FAA-2018-0236; Airspace Docket No. 18-AGL-8]

RIN 2120-AA66

Amendment of Class D and E Airspace; Eau Claire, WI

AGENCY: Federal Aviation Administration (FAA), DOT.

ACTION: Final rule.

SUMMARY: This action modifies Class D airspace, Class E airspace designated as a surface area, and Class E airspace extending upward from 700 feet above the surface at Chippewa Valley Regional Airport, Eau Claire, WI. This action is a result of an airspace review caused by the decommissioning of the Eau Claire non-directional radio beacon (NDB)/outer compass locator (LOM). The name and geographic coordinates of Chippewa Valley Regional Airport and the name of May Clinic Health System-Eau Claire Heliport are also updated to coincide with the FAA's aeronautical database.

DATES: Effective 0901 UTC, April 25, 2019. The Director of the Federal Register approves this incorporation by reference action under Title 1 Code of Federal Regulations part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to https://www.archives.gov/federal-register/cfr/ibr-locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D airspace, Class E airspace designated as a surface area, and Class E airspace extending upward from 700 feet above the surface at Chippewa Valley Regional Airport, Eau Claire, WI, to support instrument flight rule operations at the airport.

History

The FAA published a notice of proposed rulemaking in the Federal Register (83 FR 25969; June 5, 2018) for Docket No. FAA-2018-0236 to amend Class D airspace, Class E airspace designated as a surface area, and Class E airspace extending upward from 700 feet above the surface at Chippewa Valley Regional Airport, Eau Claire, WI. Interested parties were invited to participate in this rulemaking effort by submitting written comments on the proposal to the FAA. No comments were received.

Class D and E airspace designations are published in paragraph 5000, 6002, and 6005, respectively, of FAA Order 7400.11C, dated August 13, 2018, and effective September 15, 2018, which is incorporated by reference in 14 CFR 71.1. The Class E airspace designations listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This amendment to Title 14 Code of Federal Regulations (14 CFR) part 71:

Amends the Class D airspace at Chippewa Valley Regional Airport, Eau Claire, WI, by adding an extension 1 mile each side of the 215° bearing from the airport from the 4.3-mile radius to 4.5 miles south of the airport; adding an extension 1 mile each side of the 224° bearing from the Chippewa Valley RGNL: RWY 22 LOC from the 4.3-mile radius to 4.5 miles south of the airport; removing the name of the city associated with the airport in the airspace legal description to comply with a change to FAA Order 7400.2L, Procedures for Handling Airspace Matters; and amending the part-time language from “The effective date and time will thereafter be continuously published in advance by Notice to Airmen.” to “The effective date and time will thereafter be continuously published in the Chart Supplement.” in compliance with FAA Order 7400.2L;

Amends the Class E airspace designated as a surface area to within a 4.3-mile radius (reduced from a 4.4-mile radius) of the Chippewa Valley Regional Airport (formerly Eau Claire County Airport); removes the Eau Claire County Airport Localizer and the associated extension from the airspace legal description; adds an extension 1 mile each side of the 215° bearing from the airport from the 4.3-mile radius to 4.5 miles south of the airport; adds an extension 1 mile each side of the 224° bearing from the Chippewa Valley RGNL: RWY 22 LOC from the 4.3-mile radius to 4.5 miles south of the airport; changes the status of the airspace to part-time and adds part-time language to the airspace legal description; and updates the name and geographic coordinates of the airport to coincide with the FAA's aeronautical database; and

Amends the Class E airspace extending upward from 700 feet above the surface to within a 6.8-mile radius (increased from a 6.7-mile radius) at Chippewa Valley Regional Airport; removes the extension to the southwest of the airport associated with the localizer; amends the extension north of the airport to within 4 miles (increased from 3.1 miles) each side of the Eau Claire VORTAC 004° radial from the 6.8-mile radius to 7 miles north of the airport; and updates the geographic coordinates of Chippewa Valley Regional Airport and the name of Mayo Clinic Health System-Eau Claire Heliport (formerly Luther Hospital) to coincide with the FAA's aeronautical database.

This action is due to an airspace review caused by the decommissioning of the Eau Claire NDB/LOM.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 5000 Class D Airspace.

* * * * *

AGL WI D Eau Claire, WI [Amended]

Chippewa Valley Regional Airport, WI

(Lat. 44°51′57″ N, long. 91°29′03″ W)

Chippewa Valley RGNL: RWY 22 LOC

(Lat. 44°51′31″ N, long. 91°29′37″ W)

That airspace extending upward from the surface to and including 3,500 feet MSL within a 4.3-mile radius of Chippewa Valley Regional Airport, and within 1 mile each side of the 215° bearing from the airport from the 4.3-mile radius to 4.5 miles south of the airport, and within 1 mile each side of the 224° bearing from the Chippewa Valley RGNL: RWY 22 LOC from the 4.3-mile radius to 4.5 miles south of the airport. This Class D airspace area is effective during the specific dates and times established in advance by Notice to Airmen. The effective date and time will thereafter be continuously published in the Chart Supplement.

Paragraph 6002 Class E Airspace Areas Designated as Surface Areas.

* * * * *

AGL WI E2 Eau Claire, WI [Amended]

Chippewa Valley Regional Airport, WI

(Lat. 44°51′57″ N, long. 91°29′03″ W)

Chippewa Valley RGNL: RWY 22 LOC

(Lat. 44°51′31″ N, long. 91°29′37″ W)

That airspace extending upward from the surface to and including 3,500 feet MSL within a 4.3-mile radius of the Chippewa Valley Regional Airport, and within 1 mile each side of the 215° bearing from the airport from the 4.3-mile radius to 4.5 miles south of the airport, and within 1 mile each side of the 224° bearing from the Chippewa Valley RGNL: RWY 22 LOC from the 4.3-mile radius to 4.5 miles south of the airport. This Class E airspace area is effective during the specific dates and times established in advance by Notice to Airmen. The effective date and time will thereafter be continuously published in the Chart Supplement.

Paragraph 6005 Class E Airspace Areas Extending Upward From 700 Feet or More Above the Surface of the Earth.

* * * * *

AGL WI E5 Eau Claire, WI [Amended]

Chippewa Valley Regional Airport, WI

(Lat. 44°51′57″ N, long. 091°29′03″ W)

Eau Claire VORTAC

(Lat. 44°53′52″ N, long. 091°28′43″ W)

Mayo Clinic Health System-Eau Claire Heliport, WI, Point In Space Coordinates

(Lat. 44°48′24″ N, long. 091°31′51″ W)

That airspace extending upward from 700 feet above the surface within a 6.8-mile radius of Chippewa Valley Regional Airport, and within 4 miles each side of the Eau Claire VORTAC 004° radial extending from the 6.8-mile radius to 7 miles north of the airport, and within a 6-mile radius of the point in space serving the Mayo Clinic Health System-Eau Claire Heliport.

Issued in Fort Worth, Texas, on February 4, 2019.
John A. Witucki,
Acting Manager, Operations Support Group, ATO Central Service Center.

[FR Doc. 2019-01703 Filed 2-8-19; 8:45 am]

BILLING CODE 4910-13-P